DEPARTMENT OF THE INTERIOR

Bureau of Land Management

[BLM_MT_FRN_MO4500177704]

Western Montana Resource Advisory Council's Madison River Corridor Fee Proposals Subcommittee Meetings

AGENCY: Bureau of Land Management, Interior.

ACTION: Notice of public meetings.

SUMMARY: In accordance with the Federal Land Policy and Management Act of 1976 and the Federal Advisory Committee Act of 1972, the U.S. Department of the Interior, Bureau of Land Management (BLM) Western Montana Resource Advisory Council's (Council) Madison River Corridor Fee Proposals Subcommittee will meet as follows to study the BLM Dillon Field Office's recreation fee proposals for the Madison River Corridor.

DATES: The Subcommittee will meet virtually on April 11, April 23, May 7, and May 23, 2024, from 9 a.m. to noon mountain time.

ADDRESSES: Final agendas will be available and on the Council's web page at https://www.blm.gov/get-involved/resource-advisory-council/near-you/montana-dakotas/western-montana-rac or by request to the contact listed below at least 2 weeks prior to the first meeting. All meetings are open to the public.

Written comments for the Subcommittee may be sent electronically in advance of the scheduled meetings to Public Affairs Specialist David Abrams at dabrams@blm.gov, or in writing to BLM, Western Montana District/Public Affairs, 101 N Parkmont, Butte, MT 59701.

FOR FURTHER INFORMATION CONTACT: David Abrams, BLM Western Montana District Office, telephone: (406) 437-2562, email: dabrams@blm.gov. Individuals in the United States who are deaf, deafblind, hard of hearing, or have a speech disability may dial 711 (TTY, TDD, or TeleBraille) to access telecommunications relay services for contacting Mr. Abrams. Individuals outside the United States should use the relay services offered within their country to make international calls to the point-of-contact in the United States.

Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

SUPPLEMENTARY INFORMATION: The Council provides recommendations to the Secretary of the Interior concerning the planning and management of the public land resources located within the BLM's Western Montana District and offers advice on the implementation of the comprehensive, long-range plan for management, use, development, and protection of the public lands within the district. The Madison River Corridor Fee Proposals Subcommittee was formed at the Council's Jan. 11, 2024, meeting with the purpose of compiling information, conducting research, and reporting findings to the full Council for their consideration and formation of recommendations on the Dillon Field Office's recreation fee proposals on the Madison River Corridor. Meetings are open to the public in their entirety and a public comment period will be held near the end of the meeting.

Interested persons may make verbal presentations to the Subcommittee during the meeting or file written statements. Such requests should be made to David Abrams prior to the public comment period. Depending on the number of people who wish to speak, the time for individual comments may be limited.

Before including your address, phone number, email address, or other personal identifying information in your comments, please be aware that your entire comment, including your personal identifying information, may be made publicly available at any time. While you can ask us in your comment to withhold your personal identifying information from public review, we cannot guarantee that we will be able to do so.

(Authority: 43 CFR 1784.4-2)

Kathryn A. Stevens,
BLM Western Montana BLM District Manager.

[FR Doc. 2024-05135 Filed 3-8-24; 8:45 am]

BILLING CODE 4331-20-P